DEPARTMENT OF TRANSPORTATION

Federal Highway Administration

[Docket No. FHWA-2026-0034]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) to reinstate a previously approved information collection. We are required to publish this notice in the Federal Register by the Paperwork Reduction Act of 1995.

DATES: Please submit comments by March 2, 2026.

ADDRESSES: You may submit comments identified by DOT Docket ID Number 0034 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Aileen Varela-Margolles, a.varela-margolles@dot.gov, (305) 978-7780, Anthony Norman PE: Anthony.norman@dot.gov, Office of the Natural Environment, Federal Highway Administration, Department of Transportation, 1200 New Jersey Avenue SE, Washington, DC 20590. Office hours are from 7 a.m. to 4 p.m., Monday through Friday, except Federal holidays.

SUPPLEMENTARY INFORMATION: FHWA published a Federal Register Notice with a 60-day public comment period on this information collection on November 18, 2025, at 90 FR 51806. No comments were received.

Title: Noise Abatement Inventory Request.

OMB Control: 2125-0645.

Background: 23 CFR 772.13(f) requires State DOTs to maintain an inventory of constructed noise abatement measures, the information to be requested, and for FHWA to collect it via OMB collection requirements. The parameters in the information to be collected include location, design information, costs, project information and what land uses the abatement measure is protecting from noise. The information is used to create a national inventory that allows us to see trends over time, share the information with the public, and use it for research projects.

Respondents: 52 respondents of the 50 State DOTs, District of Columbia, and Commonwealth of Puerto Rico.

Frequency: Three-year approved clearance.

Estimated Average Burden per Response: On the average, the estimate is 8 hours per response. The average of 8 hours includes the time for reviewing instructions, searching existing data sources, gathering the data, reviewing it, and maintaining it. Note: Some respondents may have far less time than 8 hours, since they have done this before and their information is easily accessible.

Estimated Total Annual Burden Hours: The estimated annual burden hours are 416, which is based on an average of 8 hours per respondent and 52 respondents, which are the 50 State DOTs, the District of Columbia, and the Commonwealth of Puerto Rico.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: January 26, 2026.
Jazmyne Lewis,
Information Collection Officer.

[FR Doc. 2026-01751 Filed 1-28-26; 8:45 am]

BILLING CODE 4910-22-P